DEPARTMENT OF EDUCATION

Applications for New Awards; Performance Partnership Pilots

AGENCY: Office of Career, Technical, and Adult Education, Department of Education.

ACTION: Notice.

Overview Information:

Performance Partnership Pilots

Notice inviting applications for new awards for fiscal year (FY) 2015.

Catalog of Federal Domestic Assistance (CFDA) Number: 84.420A.

Dates:

Applications Available: April 26, 2016.

Deadline for Notice of Intent to Apply: May 26, 2016.

Note: Submission of a notice of intent to apply is optional.

Deadline for Transmittal of Applications: June 27, 2016.

Deadline for Intergovernmental Review: August 24, 2016.

Full Text of Announcement

I. Funding Opportunity Description

Purpose of Program: Performance Partnership Pilots (P3), first authorized by Congress for FY 2014 by the Consolidated Appropriations Act, 2014 (2014 Appropriations Act) and reauthorized for FY 2015 by the Consolidated and Further Continuing Appropriations Act, 2015 (2015 Appropriations Act) and for FY 2016 by the Consolidated Appropriations Act, 2016 (2016 Appropriations Act) (together, the Acts), enable pilot sites to test innovative, outcome-focused strategies to achieve significant improvements in educational, employment, and other key outcomes for disconnected youth using new flexibility to blend existing Federal funds and to seek waivers of associated program requirements.

Background: The Acts authorize the Departments of Education (ED), Labor (DOL), Health and Human Services (HHS), Housing and Urban Development (HUD),¹ and Justice (DOJ),² the Corporation for National and Community Service (CNCS), and the Institute of Museum and Library Services (IMLS) (collectively, the Agencies), to enter into Performance Partnership Agreements (performance agreements) with State, local, or tribal governments to provide additional flexibility in using certain of the Agencies' discretionary funds,³ including competitive and formula grant funds, across multiple Federal programs. Entities that seek to participate in these pilots will be required to commit to achieving significant improvements in outcomes for disconnected youth in exchange for this new flexibility. The authorizing statute states that “ ‘[t]o improve outcomes for disconnected youth' means to increase the rate at which individuals between the ages of 14 and 24 (who are low-income and either homeless, in foster care, involved in the juvenile justice system, unemployed, or not enrolled in or at risk of dropping out of an educational institution) achieve success in meeting educational, employment, or other key goals.”

¹ The 2016 Appropriations Act authorizes HUD to enter into performance agreements with respect to FY 2016 Homeless Assistance Grants. HUD is not authorized to enter into performance agreements that will be established under this notice. A notice inviting applications for FY 2016 pilots that may include FY 2016 Homeless Assistance Grants is expected to be issued later this year.

² DOJ was first authorized to enter into performance agreements by the 2015 Appropriations Act.

³ Discretionary funds are funds that Congress appropriates on an annual basis, rather than through a standing authorization. They exclude “entitlement” (or mandatory) programs such as Social Security, Medicare, Medicaid, most Foster Care IV-E programs, Vocational Rehabilitation State Grants, and Temporary Assistance to Needy Families (TANF). Discretionary programs administered by the Agencies support a broad set of public services, including education, job training, health and mental health, and other low-income assistance programs.

Government and community partners have invested considerable attention and resources to meet the needs of disconnected youth. However, practitioners, youth advocates, and others on the front lines of service delivery have observed that flexibility can be a key tool to address certain programmatic and administrative obstacles to achieving meaningful improvements in education, employment, health, and well-being for these young people.

P3 tests the hypothesis that additional flexibility for States, local governments, and tribes, in the form of blending funds and waivers of certain programmatic requirements, can help overcome some of the significant hurdles that States, local governments, and tribes face in providing intensive, comprehensive, and sustained service pathways and improving outcomes for disconnected youth. For example, P3 can be used to better coordinate and align the multiple systems that serve youth. P3 may help address the “wrong pockets” problem, where entities that observe improved outcomes or other benefits due to an intervention are unable to use Federal funds to support that intervention due to program restrictions. P3 flexibility may also allow the testing of an innovative approach to help to build additional evidence about what works. If this hypothesis proves true, providing necessary and targeted flexibility to remove or overcome these hurdles will help to achieve significant benefits for disconnected youth, the communities that serve them, and the involved agencies and partners.

The statutory definition of “disconnected youth” specifically identifies several high-need subpopulations of low-income youth, including youth who are homeless, youth in foster care, youth involved in the juvenile justice system, and youth who are unemployed or not in school or at risk of dropping out. We wish to note that there are a number of other high-need subpopulations of disconnected youth who are at risk of dropping out. For example, English learners (ELs) are at great risk of dropping out; the average cohort graduation rate for ELs during the 2013-14 school year was only 62.6 percent, while the national average cohort graduation rate for all youth was 82.3 percent. Similarly, the average cohort graduation rate for youth with a disability receiving special education and related services under the Individuals with Disabilities Education Act (IDEA) was significantly lower than that of youth who did not receive services under IDEA: 63.1 percent during the 2013-14 school year.⁴ Immigrants and refugees are another high-need subpopulation at great risk of dropping out. In 2014, the status dropout rate of immigrant youth ages 16 to 24 was 12 percent, compared with 8 percent for children of foreign-born parents, and 6 percent for children with native-born parents.⁵ Applicants wishing to serve a subpopulation of disconnected youth at risk of dropping out—such as the examples above—should consider whether that subpopulation faces an elevated risk of dropping out based on sound research.

⁴ EDFacts/Consolidated State Performance Report, School Year 2013-14. Retrieved from nces.ed.gov/ccd/tables/ACGR_RE_and_characteristics_2013-14.asp

⁵ Child Trends Data Bank (2015). High School Dropout Rates. Retrieved from www.childtrends.org/wp-content/uploads/2014/10/01_Dropout_Rates.pdf

FY 2015 and FY 2016 Funds

This notice invites applications for a second round of pilots as authorized by the 2015 Appropriations Act. That Act extended the P3 authority to allow pilots to include eligible FY 2015 funds from programs at ED, DOL, HHS, CNCS, and IMLS. Applicants may also include FY 2016 funds in their applications, including programs funded under DOJ's Office of Justice Programs,⁶ due to the authority in the 2016 Appropriations Act. However, if an applicant intends to use solely FY 2016 funds, it is not eligible to be a second-round pilot.

⁶ Under the language of the 2015 Appropriations Act, applicants may not propose to blend or request any waiver of program requirements associated with FY 2015 funds from DOJ's Office of Justice Programs. However, they may propose to braid those funds in this round of pilots.

Separately, in addition to this competition, we intend to publish in the coming months a notice inviting applications for the third round of pilots that propose to use funds appropriated for FY 2016, including FY 2016 funds made available under Homeless Assistance Grants at the Department of Housing and Urban Development.

Absolute Priorities

For purposes of this competition, absolute priorities create separate categories for scoring and considering applications. Because a diverse group of communities could benefit from P3, we include absolute priorities for applications that propose to serve disconnected youth in one or more rural communities only (Absolute Priority 2), applications that propose to serve disconnected youth in one or more Indian tribes (Absolute Priority 3), and applications that propose to serve disconnected youth in other communities (Absolute Priority 1). P3 is intended, through a demonstration, to identify effective strategies for serving disconnected youth. We are aware such strategies may differ across environments and wish to test the authority in a variety of settings.

In this FY 2015 competition, we are also including an absolute priority for communities that have experienced recent civil unrest (Absolute Priority 4), consistent with requirements of the 2016 Appropriations Act.⁷ Though the economy has recovered strongly in many places, many communities continue to struggle with high youth unemployment, low graduation rates, and crime. These and other continuing challenges can manifest in different instances of civil unrest, such as large protests or instances of civil disobedience increases in self-directed or interpersonal violence in concentrated areas, or civic disorder prompted by a public health emergency. In response to the priority, an applicant should describe the instance(s) of civil unrest, including (1) a description of the civil unrest that occurred in the community or communities it intends to serve; and (2) the date or dates the civil unrest occurred. We include this priority in the FY 2015 P3 competition in the hopes that P3 flexibilities, including waivers and the blending and braiding of funds, will empower communities to improve educational and employment outcomes for disconnected youth in these communities.

⁷ The 2016 Appropriations Act states that the FY 2015 cohort of P3 pilots is to include communities that have recently experienced civil unrest.

Competitive Preference Priorities

Competitive preference priorities allow applicants to receive extra points for satisfying certain criteria.

Competitive Preference Priority 1

In addition to the absolute priorities, we also include four competitive preference priorities. We include a competitive preference priority for projects that serve those disconnected youth who are neither employed nor enrolled in education and who also face significant barriers to accessing education and employment and that are likely to result in significantly better educational or employment outcomes for such youth. Significant barriers to accessing education and employment could include, for example, a disability. An analysis of 2014 Current Population Survey data found that about one-third (34 percent) of youth ages 16 to 24 who were neither employed nor enrolled in school in 2014 reported that illness or disability was a major reason why they did not work.⁸ Living in a neighborhood with a high concentration of poverty is another barrier. Research indicates that individuals who reside in high-poverty neighborhoods often have diminished access to employment options and high-quality educational opportunities.⁹ Involvement with the justice system is another example of a significant barrier to education and employment for youth who are neither employed nor enrolled in school. Many youth involved with the justice system face significant barriers to accessing the education and training they need to achieve independence and reintegrate into the community because the education and training available to them through correctional facilities, as well as upon release, often does not meet their needs.¹⁰ For older youth involved with the adult criminal justice system, having a criminal record can severely limit the ability to secure employment.¹¹ Reconnecting these young people to education and employment is a national imperative, and including this priority as a competitive preference priority will create incentives for applicants and communities to design projects to serve this hard-to-reach population.

⁹ Federal Reserve System and Brookings Institution (2008). The Enduring Challenge of Concentrated Poverty in America: Case Studies from Communities Across the U.S. Washington, DC: Authors. Retrieved from www.frbsf.org/community-development/files/cp_fullreport.pdf.

¹⁰ See, for example, Juvenile Justice Students Face Barriers to High School Graduation and Job Training (2010). Report No. 10-55. Tallahassee, FL: Office of Program Policy Analysis and Government Accountability, the Florida Legislature, Retrieved from: www.oppaga.state.fl.us/MonitorDocs/Reports/pdf/1055rpt.pdf.

¹¹ See, for example, Pager, D.P. and Western, B. (2009). Investigating Prisoner Reentry: The Impact of Conviction Status on the Employment Prospects of Young Men: Final Report to the National Institute of Justice. Document No.: 228584. Retrieved from: www.ncjrs.gov/pdffiles1/nij/grants/228584.pdf.

Competitive Preference Priority 2

We include a competitive preference priority for projects that provide all disconnected youth served by the project with paid work-based learning opportunities because addressing the employment needs of disconnected youth is critical to improving their well-being and preparing them for lives as productive adults. We note as well that new evidence indicates that the benefits of work-based learning opportunities extend beyond improving the employment outcomes of youth. A recent evaluation of the summer work and learning opportunity program offered by New York City for youth ages 14 through 21, which selected participants using a randomized lottery, found that, within five to eight years after participation, the incarceration and mortality rates of participants were significantly lower than those of their peers who were not selected to participate in the program.¹² For youth who are not enrolled in school, year-round employment, and not just employment during the summer, is critically important. The work-based learning opportunities must be integrated with academic and technical instruction because research suggests that work experience must be combined with academic and technical training in order to have a positive impact on the employment and earnings outcomes of youth.¹³

¹² Gelber, A., Isen, A. and Kessler, J.B. (2014). The Effects of Youth Employment: Evidence from New York City Summer Youth Employment. Program Lotteries. NBER Working Paper No. 20810. Cambridge, MA: National Bureau of Economic Research.

¹³ Sattar, S. (2010). Evidence Scan of Work Experience Programs. Oakland, CA: Mathematica Policy Research. See also Roder, A. and Elliott, M. (2014). Sustained Gains: Year-Up's Continued Impact on Young Adults' Earnings. New York, NY: Economic Mobility Corporation, Inc.

Competitive Preference Priority 3

This competition also includes a competitive preference priority for projects that are designed to serve and coordinate with a federally designated Promise Zone. Promise Zone designees have committed to establishing comprehensive, coordinated approaches in order to ensure that America's most vulnerable children succeed from cradle to career. Thirteen Promise Zones have been designated. They are located in: The Choctaw Nation of Oklahoma; Los Angeles, California; Sacramento, California; Hartford, Connecticut; Indianapolis, Indiana; the Kentucky Highlands in Kentucky; Minneapolis, Minnesota; St. Louis and St. Louis County, Missouri; Camden, New Jersey; Philadelphia, Pennsylvania; Barnwell, South Carolina; Porcupine, South Dakota; and San Antonio, Texas. Additional Promise Zones are expected to be designated later this year. The Promise Zone designation is designed to assist local leaders in creating jobs, increasing economic activity, improving educational opportunities, leveraging private investment, and reducing violent crime in high-poverty urban, rural, and tribal communities.¹⁴

¹⁴ For additional information on Promise Zones, see www.whitehouse.gov/the-press-office/2014/01/08/fact-sheet-president-obama-s-promise-zones-initiative.

Competitive Preference Priority 4

This competition also includes a competitive preference priority for applicants that plan to conduct independent impact evaluations of at least one service-delivery or operational component of their pilots (site-specific evaluation), in addition to participating in any national P3 evaluation, which is discussed in the Program Requirements section of this notice. In proposing these site-specific impact evaluations, applicants should use the strongest possible designs and research methods and use high-quality administrative data in order to maximize confidence in the evaluation findings and minimize the costs of conducting these evaluations. Federal start-up funds and blended funds may be used to finance these evaluations.

Priorities: This competition includes four absolute priorities, four competitive preference priorities, and two invitational priorities. Absolute Priorities 1, 2 and 3 and Competitive Preference Priorities 1, 2 and 4 are from the notice of final priorities, requirements, definitions, and selection criteria for this program published elsewhere in this issue of the Federal Register (P3 NFP). Absolute Priority 4 is from section 525(b) of Division H of the 2016 Appropriations Act. Competitive Preference Priority 3 is from notice of final priority—Promise Zones, published in the Federal Register on March 27, 2014 (79 FR 17035) (Promise Zones NFP).

Absolute Priorities: These priorities are considered absolute priorities for FY 2015 and any subsequent year for which we make awards from the list of unfunded applicants from this competition. Under 34 CFR 75.105(c)(3) we consider only applications that meet Absolute Priority 1, 2, 3, or 4.

Note: Applicants must indicate in their application which absolute priority they are applying under. If an applicant applies under Absolute Priorities 2, 3, or 4, but is not eligible under that absolute priority, the applicant will still be considered for funding under Absolute Priority 1.

These priorities are:

Absolute Priority 1—Improving Outcomes for Disconnected Youth.

To meet this priority, an applicant must propose a pilot that is designed to improve outcomes for disconnected youth.

Absolute Priority 2—Improving Outcomes for Disconnected Youth in Rural Communities.

To meet this priority, an applicant must propose a pilot that is designed to improve outcomes for disconnected youth in one or more rural communities (as defined in this notice) only.

Note: An applicant should describe in its application how it meets the priority.

Absolute Priority 3—Improving Outcomes for Disconnected Youth in Tribal Communities.

To meet this priority, an applicant must (1) propose a pilot that is designed to improve outcomes for disconnected youth who are members of one or more State- or federally-recognized Indian tribal communities; and (2) represent a partnership that includes one or more State- or federally-recognized Indian tribes.

Absolute Priority 4—Improving Outcomes for Disconnected Youth in Communities that Have Recently Experienced Civil Unrest.

To meet this priority, an applicant must propose a pilot that is designed to improve outcomes for disconnected youth in one or more communities that have recently experienced civil unrest.

Competitive Preference Priorities: For FY 2015 and any subsequent year for which we make awards from the list of unfunded applicants from this competition, these priorities are competitive preference priorities. Under 34 CFR 75.105(c)(2)(i), we award up to an additional five points to an application based on how well the application meets Competitive Preference Priority 1, an additional three points to an application that meets Competitive Preference Priority 2, an additional two points to an application that meets Competitive Preference Priority 3, and up to an additional 10 points to an application based on how well the application meets Competitive Preference Priority 4.

Applicants may address more than one of the competitive preference priorities. An applicant must identify in the in the Appendix section of its application, under “Other Attachments Form,” the priority or priorities it addresses.

Competitive Preference Priority 1—Improving Outcomes for Youth Who Are Unemployed and Out of School (Up to 5 points).

To meet this priority, an applicant must propose a pilot that—

(1) will serve disconnected youth who are neither employed nor enrolled in education and who face significant barriers to accessing education and employment; and

(2) is likely to result in significantly better educational or employment outcomes for such youth.

Competitive Preference Priority 2—Work-Based Learning Opportunities (0 or 3 points).

To meet this priority, an applicant must propose a pilot that will provide all of the disconnected youth it proposes to serve with paid work-based learning opportunities, such as opportunities during the summer, which are integrated with academic and technical instruction.

Competitive Preference Priority 3—Promise Zones (0 or 2 points).

This priority is for projects that are designed to serve and coordinate with a federally designated Promise Zone.

Competitive Preference Priority 4—Site-Specific Evaluation (Up to 10 points).

To meet this priority, an applicant must propose to conduct an independent evaluation of the impacts on disconnected youth of its overall program or specific components of its program that is a randomized controlled trial or a quasi-experimental design study. The extent to which an applicant meets this priority will be based on the clarity and feasibility of the applicant's proposed evaluation design, the appropriateness of the design to best capture key pilot outcomes, the prospective contribution of the evaluation to the knowledge base about serving disconnected youth (including the rigor of the design and the validity and generalizability of the findings), and the applicant's demonstrated expertise in planning and conducting a randomized controlled trial or quasi-experimental evaluation study.

In order to meet this priority, an applicant also must include the following two documents as separate attachments to its application:

1. A Summary Evaluation Plan that describes how the pilot or a component of the pilot (such as a discrete service-delivery strategy) will be rigorously evaluated. The evaluation plan may not exceed eight pages. The plan must include the following:

• A brief description of the research question(s) proposed for study and an explanation of its/their relevance, including how the proposed evaluation will build on the research evidence base for the project as described in the application and how the evaluation findings will be used to improve program implementation;

• A description of the randomized controlled trial or quasi-experimental design study methodology, including the key outcome measures, the process for forming a comparison or control group, a justification for the target sample size and strategy for achieving it, and the approach to data collection (and sources) that minimizes both cost and potential attrition;

• A proposed evaluation timeline, including dates for submission of required interim and final reports;

• A description of how, to the extent feasible and consistent with applicable Federal, State, local, and tribal privacy requirements, evaluation data will be made available to other, third‐party researchers after the project ends; and

• A plan for selecting and procuring the services of a qualified independent evaluator (as defined in this notice) prior to enrolling participants (or a description of how one was selected if agreements have already been reached). The applicant must describe how it will ensure that the qualified independent evaluator has the capacity and expertise to conduct the evaluation, including estimating the effort for the qualified independent evaluator. This estimate must include the time, expertise, and analysis needed to successfully complete the proposed evaluation.

2. A supplementary Evaluation Budget Narrative, which is separate from the overall application budget narrative and provides a description of the costs associated with funding the proposed program evaluation component, and an explanation of its funding source—i.e., blended funding, start-up funding, State, local, or tribal government funding, or other funding (such as philanthropic). The budget must include a breakout of costs by evaluation activity (such as data collection and participant follow-up), and the applicant must describe a strategy for refining the budget after the services of an evaluator have been procured. The applicant must include travel costs for the qualified independent evaluator to attend at least one in-person conference in Washington, DC during the period of evaluation. All costs included in this supplementary budget narrative must be reasonable and appropriate to the project timeline and deliverables.

The Agencies will review the Summary Evaluation Plans and Evaluation Budget Narratives and provide feedback to applicants that are determined to have met the priority and that are selected as pilots. After award, these pilots must submit to the lead Federal agency a detailed evaluation plan of no more than 30 pages that relies heavily on the expertise of a qualified independent evaluator. The detailed evaluation plan must address the Agencies' feedback and expand on the Summary Evaluation Plan.

[Approved by the Office of Management and Budget under control number 1830-0575]

Invitational Priorities:

For FY 2015 and any subsequent year in which we make awards from the list of unfunded applicants from this competition, these priorities are invitational priorities. Under 34 CFR 75.105(c)(1) we do not give an application that meets these invitational priorities a competitive or absolute preference over other applications.

Invitational Priority 1—Improving Outcomes for Homeless Youth.

To meet this priority, an applicant must propose a pilot that—

(1) will serve disconnected youth who are homeless youth (as defined in this notice); and

(2) is likely to result in significantly better educational or employment outcomes for such youth.

Invitational Priority 2—Improving Outcomes for Youth Involved in the Justice System.

To meet this priority, an applicant must propose a pilot that—

(1) will serve disconnected youth who are involved in the justice system; and

(2) is likely to result in significantly better educational or employment outcomes for such youth.

Application Requirements:

The application requirements for this competition are from the P3 NFP. Any application that does not include the required documents or information will not be considered.

(a) Executive Summary. The applicant must provide an executive summary that briefly describes the proposed pilot, the flexibilities being sought, and the interventions or systems changes that would be implemented by the applicant and its partners to improve outcomes for disconnected youth.

(b) Target Population. The applicant must complete Table 1, specifying the target population(s) for the pilot, including the age range of youth who will be served and the estimated number of youth who will be served over the course of the pilot.

Table 1—Target Population
Target population | Age range | Estimated number of youth served over the course of the pilot

(c) Flexibility, including waivers:

1. Federal requests for flexibility, including waivers. For each program to be included in a pilot, the applicant must complete Table 2, Requested Flexibility. The applicant must identify two or more discretionary Federal programs that will be included in the pilot, at least one of which must be administered (in whole or in part) by a State, local, or tribal government.¹⁵ The applicant must identify one or more program requirements that would inhibit implementation of the pilot and request that the requirement(s) be waived in whole or in part. Examples of potential waiver requests and other requests for flexibility include, but are not limited to: Blending of funds and changes to align eligibility requirements, allowable uses of funds, and performance reporting.

¹⁵ Local governments that are requesting waivers of requirements in State-administered programs are strongly encouraged to consult with the State agencies that administer the programs in preparing their applications.

Table 2—Requested Flexibility
Program name | Federal agency | Program requirements to be waived in whole or in part | Statutory or regulatory citation | Name of program grantee | Blending funds? (Yes/No)
Note: Please note in “Name of Program Grantee” if the grantee is a State, local, or tribal government, or non-governmental entity.

2. Non-Federal flexibility, including waivers. The applicant must provide written assurance that:

A. The State, local, or tribal government(s) with authority to grant any needed non-Federal flexibility, including waivers, has approved or will approve such flexibility within 60 days of an applicant's designation as a pilot finalist; ¹⁶ or

¹⁶ This includes, for example, for local governments, instances in which a waiver must be agreed upon by a State. It also includes instances in which waivers may only be requested by the State on the local government's behalf, such as waivers of the performance accountability requirements for local areas established in Title I of the Workforce Innovation and Opportunity Act.

B. Non-Federal flexibility, including waivers, is not needed in order to successfully implement the pilot.

(d) Logic Model. The applicant must provide a graphic depiction (not longer than one page) of the pilot's logic model that illustrates the underlying theory of how the pilot's strategy will produce intended outcomes.

(e) Partnership Capacity and Management. The applicant must—

1. Identify the proposed partners, including any and all State, local, and tribal entities and non-governmental organizations that would be involved in implementation of the pilot, and describe their roles in the pilot's implementation using Table 3. Partnerships that cross programs and funding sources but are under the jurisdiction of a single agency or entity must identify the different sub-organizational units involved.

2. Provide a memorandum of understanding or letter of commitment signed by the executive leader or other accountable senior representative of each partner that describes each proposed partner's commitment, including its contribution of financial or in-kind resources (if any).

Table 3—Pilot Partners
Partner | Type of Organization (State agency, local agency, community-based organization, business) | Description of Partner's Role in the Pilot
Note: Any grantees mentioned in Table 2 that are not the lead applicant must be included in Table 3.

(f) Data and Performance Management Capacity.

The applicant must propose outcome measures and interim indicators to gauge pilot performance using Table 4. At least one outcome measure must be in the domain of education, and at least one outcome measure must be in the domain of employment. Applicants may specify additional employment and education outcome measures, as well as outcome measures in other domains of well-being, such as criminal justice, physical and mental health, and housing. Regardless of the outcome domain, applicants must identify at least one interim indicator for each proposed outcome measure. Applicants may apply one interim indicator to multiple outcome measures, if appropriate.

Examples of outcome measures and interim indicators follow. Applicants may choose from this menu or may propose alternative indicators and outcome measures if they describe why their alternatives are more appropriate for their proposed projects.

Education Domain
Outcome measure | Interim indicator
High school diploma or equivalency attainment | • High school enrollment.
| • Reduction in chronic absenteeism.
| • Grade promotion.
| • Performance on standardized assessments.
| • Grade Point Average.
| • Credit accumulation.
College completion | • Enrollment.
| • Course attendance.
| • Credit accumulation.
| • Retention.

Employment Domain
Outcome measure | Interim indicator
Sustained Employment | • Unsubsidized employment at time periods after exit from the program.
| • Median earnings at time periods after exit from the program.

The specific outcome measures and interim indicators the applicant uses should be grounded in its logic model, and informed by applicable program results or research, as appropriate. Applicants must also indicate the source of the data, the proposed frequency of collection, and the methodology used to collect the data.

Table 4—Outcome Measures and Interim Indicators
Domain | Outcome measure | Interim indicator(s)
Education | Data Source: | Data Source:
| Frequency of Collection: | Frequency of Collection:
| Methodology: | Methodology:
Employment | Data Source: | Data Source:
| Frequency of Collection: | Frequency of Collection:
| Methodology: | Methodology:
Other | Data Source: | Data Source:
| Frequency of Collection: | Frequency of Collection:
| Methodology: | Methodology:

(g) Budget and Budget Narrative.

1. The applicant must complete Table 5 to provide the following budget information:

A. For each Federal program, the grantee, the amount of funds to be blended or braided, the percentage of total program funding received by the grantee that the amount to be blended or braided represents, the Federal fiscal year of the award, and whether the grant has already been awarded; and

B. The total amount of funds from all Federal programs that would be blended or braided under the pilot.

Table 5—Federal Funds
Program name | Grantee | Amount of funds to be blended | Blended funds as a percentage of grantee's total award | Federal fiscal year of award | Grant already awarded? (Y/N)
Total Blended |  |  |  |  |

Program name | Grantee | Amount of funds to be blended | Blended funds as a percentage of grantee's total award | Federal fiscal year of award | Grant already awarded? (Y/N)
Total Braided |  |  |  |  |
Note: Applicants may propose to expand the number of Federal programs supporting pilot activities using future funding beyond FY 2016, which may be included in pilots if Congress extends the P3 authority.
[Approved by the Office of Management and Budget under control number 1830-0575]

Program Requirements:

(a) National evaluation. In addition to any site-specific evaluations that pilots may undertake, the Agencies may initiate a national P3 evaluation of the pilots selected in Round 2, as well as those selected in subsequent rounds.¹⁷ Each P3 pilot must participate fully in any federally sponsored P3 evaluation activity, including the national evaluation of P3, which will consist of the analysis of participant characteristics and outcomes, an implementation analysis at all sites, and rigorous impact evaluations of promising interventions in selected sites. The applicant must acknowledge in writing its understanding of these requirements by submitting the form provided in Appendix A, “Evaluation Commitment Form,” as an attachment to its application.

¹⁷ The initiation of any federally sponsored national P3 evaluation activities is dependent upon the availability of sufficient funds and resources.

[Approved by the Office of Management and Budget under control number 1830-0575]

(b) Community of practice. All P3 pilots must participate in a community of practice (as defined in this notice) that includes an annual in-person meeting of pilot sites (paid with grant funding that must be reflected in the pilot budget submitted) and virtual peer-to-peer learning activities. This commitment involves each pilot site working with the lead Federal agency on a plan for supporting its technical assistance needs, which can include learning activities supported by foundations or other non-Federal organizations as well as activities financed with Federal funds for the pilot.

(c) Consent. P3 pilots must secure necessary consent from parents, guardians, students, or youth program participants to access data for their pilots and any evaluations, in accordance with applicable Federal, State, local, and tribal laws. Applicants must explain how they propose to ensure compliance with Federal, State, local, and tribal privacy laws and regulations as pilot partners share data to support effective coordination of services and link data to track outcome measures and interim indicators at the individual level to perform, where applicable, a low-cost, high-quality evaluation.¹⁸

¹⁸ To the extent feasible and consistent with applicable privacy requirements, grantees must also ensure the data from their evaluations are made available to third‐party researchers.

(d) Performance agreement. Each P3 pilot, along with other non-Federal government entities involved in the partnership, must enter into a performance agreement that will include, at a minimum, the following (as required by section 526(c)(2) of Division H of the 2014 Appropriations Act):

1. The length of the agreement;

2. The Federal programs and federally funded services that are involved in the pilot;

3. The Federal discretionary funds that are being used in the pilot;

4. The non‐Federal funds that are involved in the pilot, by source (which may include private funds as well as governmental funds) and by amount;

5. The State, local, or tribal programs that are involved in the pilot;

6. The populations to be served by the pilot;

7. The cost‐effective Federal oversight procedures that will be used for the purpose of maintaining the necessary level of accountability for the use of the Federal discretionary funds;

8. The cost‐effective State, local, or tribal oversight procedures that will be used for the purpose of maintaining the necessary level of accountability for the use of the Federal discretionary funds;

9. The outcome (or outcomes) that the pilot is designed to achieve;

10. The appropriate, reliable, and objective outcome‐measurement methodology that will be used to determine whether the pilot is achieving, and has achieved, specified outcomes;

11. The statutory, regulatory, or administrative requirements related to Federal mandatory programs that are barriers to achieving improved outcomes of the pilot; and

12. Criteria for determining when a pilot is not achieving the specified outcomes that it is designed to achieve and subsequent steps, including:

i. The consequences that will result; and

ii. The corrective actions that will be taken in order to increase the likelihood that the pilot will achieve such specified outcomes.

Applicants are advised that the Agencies expect to make the performance agreements available to the public.

Definitions: The following definitions are from the P3 NFP, the 2014 Appropriations Act, and 34 CFR 77.1.

Blended funding is a funding and resource allocation strategy that uses multiple existing funding streams to support a single initiative or strategy. Blended funding merges two or more funding streams, or portions of multiple funding streams, to produce greater efficiency and/or effectiveness. Funds from each individual stream lose their award-specific identity, and the blended funds together become subject to a single set of reporting and other requirements, consistent with the underlying purposes of the programs for which the funds were appropriated.

Braided funding is a funding and resource allocation strategy in which entities use existing funding streams to support unified initiatives in as flexible and integrated a manner as possible while still tracking and maintaining separate accountability for each funding stream. One or more entities may coordinate several funding sources, but each individual funding stream maintains its award-specific identity. Whereas blending funds typically requires one or more waivers of associated program requirements, braiding does not. However, waivers may be used to support more effective or efficient braiding of funds.

Community of practice means a group of pilots that agrees to interact regularly to solve persistent problems or improve practice in an area that is important to them and the success of their projects.

English learner means an individual who has limited ability in reading, writing, speaking, or comprehending the English language, and—

(A) Whose native language is a language other than English; or

(B) Who lives in a family or community environment where a language other than English is the dominant language.

Evidence-informed interventions bring together the best available research, professional expertise, and input from youth and families to identify and deliver services that have promise to achieve positive outcomes for youth, families, and communities.

Homeless youth has the same meaning as “homeless children and youths” in section 725(2) of the McKinney-Vento Education for Homeless Children and Youth Act of 2001 (42 U.S.C. 11434a(2)).

An interim indicator is a marker of achievement that demonstrates progress toward an outcome and is measured at least annually.

Interventions based on evidence are approaches to prevention or treatment that are validated by documented scientific evidence from randomized controlled trials, or quasi-experimental design studies or correlational studies, and that show positive effects (for randomized controlled trials and quasi-experimental design studies) or favorable associations (for correlational studies) on the primary targeted outcomes for populations or settings similar to those of the proposed pilot. The best evidence to support an applicant's proposed reform(s) and target population will be based on one or more randomized controlled trials. The next best evidence will be studies using a quasi-experimental design. Correlational analysis may also be used as evidence to support an applicant's proposed reforms.

Logic model (also referred to as theory of action) means a well-specified conceptual framework that identifies key components of the proposed process, product, strategy, or practice (i.e., the active “ingredients” that are hypothesized to be critical to achieving the relevant outcomes) and describes the relationships among the key components and outcomes, theoretically and operationally.

Outcomes are the intended results of a program, or intervention. They are what applicants expect their projects to achieve. An outcome can be measured at the participant level (for example, changes in employment retention or earnings of disconnected youth) or at the system level (for example, improved efficiency in program operations or administration).

A qualified independent evaluator is an individual who coordinates with the grantee and the lead Federal agency for the pilot, but works independently on the evaluation and has the capacity to carry out the evaluation, including, but not limited to: Prior experience conducting evaluations of similar design (for example, for randomized controlled trials, the evaluator will have successfully conducted a randomized controlled trial in the past); positive past performance on evaluations of a similar design, as evidenced by past performance reviews submitted from past clients directly to the awardee; lead staff with prior experience carrying out a similar evaluation; lead staff with minimum credential (such as a Ph.D. plus three years of experience conducting evaluations of a similar nature, or a Master's degree plus seven years of experience conducting evaluations of a similar nature); and adequate staff time to work on the evaluation.

Quasi-experimental design study means a study using a design that attempts to approximate an experimental design by identifying a comparison group that is similar to the treatment group in important respects. These studies, depending on design and implementation, can meet What Works Clearinghouse Evidence Standards (as defined in this notice) with reservations (but not What Works Clearinghouse Evidence Standards without reservations).

Randomized controlled trial means a study that employs random assignment of, for example, students, teachers, classrooms, schools, or districts to receive the intervention being evaluated (the treatment group) or not to receive the intervention (the control group). The estimated effectiveness of the intervention is the difference between the average outcome for the treatment group and for the control group. These studies, depending on design and implementation, can meet What Works Clearinghouse Evidence Standards (as defined in this notice) without reservations.

A rural community is a community that is served only by one or more local educational agencies (LEAs) that are currently eligible under the Department of Education's Small, Rural School Achievement (SRSA) program or the Rural and Low-Income School (RLIS) program authorized under the Elementary and Secondary Education Act of 1965 (ESEA), as amended, or includes only schools designated by the National Center for Education Statistics (NCES) with a locale code of 42 or 43.

A waiver provides flexibility in the form of relief, in whole or in part, from specific statutory, regulatory, or administrative requirements that have hindered the ability of a State, locality, or tribe to organize its programs and systems or provide services in ways that best meet the needs of its target populations. Under P3, waivers provide flexibility in exchange for a pilot's commitment to improve programmatic outcomes for disconnected youth consistent with underlying statutory authorities and purposes.

Program Authority: Section 524 of Division G and section 219 of Division B of the 2015 Appropriations Act and Section 219 of Division B and section 525 of Division H of the 2016 Appropriations Act.

Applicable Regulations:

(a) The Education Department General Administrative Regulations in 34 CFR parts 75, 77, 79, 81, 82, 84, 86, 97, 98, and 99, and such other regulations as the Agencies may apply based on the programs included in a particular pilot. (b) The Office of Management and Budget (OMB) Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Promise Zones NFP. (e) The P3 NFP.

Note: The regulations in 34 CFR part 79 apply to all applicants except federally recognized Indian tribes.

II. Award Information

Type of Award: Cooperative agreement.

Estimated Available Funds: Up to $3,050,000.

Contingent upon the availability of funds and the quality of applications, we may make additional awards in subsequent years from the list of unfunded applicants from this competition.

Estimated Range of Awards: $250,000 to $350,000.

Estimated Average Size of Award: $300,000.

Estimated Number of Awards: 10.

Note: The Agencies are not bound by any estimates in this notice. ED may supplement one or more awards above the amount requested in the application if funds remain after ED has made awards to all of the pilots.

Project Period: Not to extend beyond September 30, 2019.

III. Eligibility Information

1. Eligible Applicants: The lead applicant must be a State, local, or tribal government entity, represented by a Chief Executive, such as a governor, mayor, or other elected leader, or the head of a State, local, or tribal agency.

2. Cost-Sharing or Matching: This program does not require cost-sharing or matching.

3. Eligible Subgrantees: (a) Under 75.708(b) and (c) a grantee may award subgrants—to directly carry out project activities described in its application—to the following types of entities: State governmental agencies; local governmental agencies, including local educational agencies; tribal governmental agencies; institutions of higher education; and nonprofit organizations.

(b) The grantee may award subgrants to entities it has identified in an approved application.

IV. Application and Submission Information

1. Address to Request Application Package: Marilyn Fountain, U.S. Department of Education, 400 Maryland Avenue SW., room 11026, PCP, Washington, DC 20202. Telephone: (202) 245-7346. Email address: disconnectedyouth@ed.gov. Or Rosanne Andre, U.S. Department of Education, 400 Maryland Avenue SW., room 11070, PCP, Washington, DC 20202. Telephone: (202) 245-7789. Email address: disconnectedyouth@ed.gov.

If you use a telecommunications device for the deaf (TDD) or a text telephone (TTY), call the Federal Relay Service (FRS), toll free, at 1-800-877-8339.

Individuals with disabilities can obtain a copy of the application package in an accessible format (e.g., braille, large print, audiotape, or compact disc) by contacting either of the program contact persons listed in this section.

2. a. Content and Form of Application Submission: Requirements concerning the content of an application, together with the forms you must submit, are in the application package for this competition.

Notice of Intent to Submit an Application: May 26, 2016.

Note: Submission of a notice of intent to apply is optional. We will be able to develop a more efficient process for reviewing applications if we know the approximate number of applicants that intend to apply under this competition. Therefore, we strongly encourage each potential applicant to notify us of the applicant's intent to apply by emailing to disconnectedyouth@ed.gov the following information: (1) The applicant organization's name and address and (2) the absolute priority the applicant intends to address. Applicants that do not submit a notice of intent to apply may still submit an application.

Page Limit: The application narrative is where you, the applicant, provide the information specified in the application requirements and address the selection criteria that reviewers use to evaluate your application. It does not include the application cover sheet; the budget and budget narrative; the assurances and certifications; or the abstract, the absolute and competitive priorities, the resumes, the bibliography, or the letters of commitment and memoranda of understanding.

Page Limit: Applicants must limit the application narrative to no more than 45 pages, using the following standards:

• A “page” is 8.5″ x 11″, on one side only, with 1″ margins at the top, bottom, and both sides.

• Double space (no more than three lines per vertical inch) all text in the application narrative, including titles, headings, footnotes, quotations, references, and captions

• Use a font that is either 12 point or larger or no smaller than 10 pitch (characters per inch).

• Use one of the following fonts: Times New Roman, Courier, Courier New, or Arial.

The page limit for the application narrative does not apply to the application cover sheet; the budget and budget narrative; the assurances and certifications; or the abstract, the absolute and competitive priorities, the resumes, the bibliography, or the letters of commitment and memoranda of understanding. However, the page limit does apply to all of the application narrative section.

Our reviewers will not read any pages of your application narrative that exceed the page limit.

b. Submission of Proprietary Information:

Given the types of projects that may be proposed in applications for P3, your application may include business information that you consider proprietary. In 34 CFR 5.11 we define “business information” and describe the process we use in determining whether any of that information is proprietary and, thus, protected from disclosure under Exemption 4 of the Freedom of Information Act (5 U.S.C. 552, as amended).

Because we plan to make successful applications available to the public, and may make all applications available, you may wish to request confidentiality of business information.

Consistent with Executive Order 12600, please designate in your application any information that you feel is exempt from disclosure under Exemption 4 of the Freedom of Information Act. In the appropriate Appendix section of your application, under “Other Attachments Form,” please list the page number or numbers on which we can find this information. For additional information, please see 34 CFR 5.11(c).

3. Submission Dates and Times:

Applications Available: April 26, 2016.

Deadline for Notice of Intent to Apply: May 26, 2016.

Note: Submission of a notice of intent to apply is optional.

Deadline for Transmittal of Applications: June 27, 2016. Applications must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remain subject to all other requirements and limitations in this notice.

Deadline for Intergovernmental Review: August 24, 2016. 4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements:

Applications for grants under this competition must be submitted electronically unless you qualify for an exception to this requirement in accordance with the instructions in this section.

a. Electronic Submission of Applications.

Applications for grants under the P3 program, CFDA number 84.420A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for P3 at www.Grants.gov. You must search for the downloadable application package for this competition by the CFDA number. Do not include the CFDA number's alpha suffix in your search (e.g., search for 84.420, not 84.420A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a read-only, non-modifiable Portable Document Format (PDF). Do not upload an interactive or fillable PDF file. If you upload a file type other than a read-only, non-modifiable PDF (e.g., Word, Excel, WordPerfect, etc.) or submit a password-protected file, we will not review that material. Please note that this could result in your application not being considered for funding because the material in question—for example, the project narrative—is critical to a meaningful review of your proposal. For that reason it is important to allow yourself adequate time to upload all material as PDF files. The Department will not convert material from other formats to PDF.

• Your electronic application must comply with any page-limit requirements described in this notice.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, non-modifiable PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. We will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Marilyn Fountain, U.S. Department of Education, 400 Maryland Avenue SW., room 11026, PCP, Washington, DC 20202. FAX: (202) 245-7838. Or Rosanne Andre, U.S. Department of Education, 400 Maryland Avenue SW., Room 11070, PCP, Washington, DC 20202. FAX: (202) 245-7838.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: CFDA Number 84.420A, LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: CFDA Number 84.420A, 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria. The selection criteria for this competition and any subsequent year for which we make awards from the list of unfunded applicants from this competition are from the P3 NFP.

The points assigned to each criterion are indicated in the parentheses next to the criterion. An applicant may earn up to 100 points based on the selection criteria. An applicant's final score will include both points awarded based on selection criteria and also any points awarded for the competitive preference priorities.

Selection Criteria

(a) Need for Project. In determining the need for the proposed project, we will consider the magnitude of the need of the target population, as evidenced by the applicant's analysis of data, including data from a comprehensive needs assessment conducted or updated in the past three years using representative data on youth from the jurisdiction(s) proposing the pilot, that demonstrates how the target population lags behind other groups in achieving positive outcomes and the specific risk factors for this population (5 points).

Note: Applicants are encouraged to disaggregate these data according to relevant demographic factors such as race, ethnicity, gender, age, disability status, involvement in systems such as foster care or juvenile justice, status as pregnant or parenting, and other key factors selected by the applicant. If disaggregated data specific to the local population are not available, applicants may refer to disaggregated data available through research, studies, or other sources that describe similarly situated populations as the one the applicant is targeting with its pilot.

Note: Applicants do not need to include a copy of the needs assessment but should identify when it was conducted or updated.

(b) Need for Requested Flexibility, Including Blending of Funds and Other Waivers. In determining the need for the requested flexibility, including blending of funds and other waivers, we will consider:

1. The strength and clarity of the applicant's justification that each of the specified Federal requirements identified in Table 2 for which the applicant is seeking flexibility hinders implementation of the proposed pilot (10 points); and

2. The strength and quality of the applicant's justification of how each request for flexibility identified in Table 2 (i.e., blending funds and waivers) will increase efficiency or access to services and produce significantly better outcomes for the target population(s) (10 points).

(c) Project Design. In determining the strength of the project design, we will consider:

1. The strength and logic of the proposed project design in addressing the gaps and the disparities identified in the response to Selection Criterion (a) (Need for Project) and the barriers identified in the response to Selection Criterion (b) (Need for Requested Flexibility, Including Blending of Funds and Other Waivers). This includes the clarity of the applicant's plan and how the plan differs from current practices. Scoring will account for the strength of both the applicant's narrative and the logic model (10 points);

Note: The applicant's narrative should describe how the proposed project will use and coordinate resources, including building on participation in any complementary Federal initiatives or efforts.

2. The strength of the evidence supporting the pilot design and whether the applicant proposes the effective use of interventions based on evidence and evidence-informed interventions (as defined in this notice), as documented by citations to the relevant evidence that informed the applicant's design (5 points);

Note: Applicants should cite the studies on interventions and system reforms that informed their pilot design and explain the relevance of the cited evidence to the proposed project in terms of subject matter and evaluation evidence. Applicants proposing reforms on which there are not yet evaluations (such as innovations that have not been formally tested or tested only on a small scale) should document how evidence or practice knowledge informed the proposed pilot design.

3. The strength of the applicant's evidence that the project design, including any protections and safeguards that will be established, ensures that the consequences or impacts of the changes from current practices in serving youth through the proposed funding streams:

A. Will not result in denying or restricting the eligibility of individuals for services that (in whole or in part) are otherwise funded by these programs; and

B. Based on the best available information, will not otherwise adversely affect vulnerable populations that are the recipients of those services (5 points).

(d) Work Plan and Project Management. In determining the strength of the work plan and project management, we will consider the strength and completeness of the work plan and project management approach and their likelihood of achieving the objectives of the proposed project on time and within budget, based on—

1. Clearly defined and appropriate responsibilities, timelines, and milestones for accomplishing project tasks;

2. The qualifications of project personnel to ensure proper management of all project activities;

3. How any existing or anticipated barriers to implementation will be overcome (10 points).

Note: If the program manager or other key personnel are already on staff, the applicant should provide this person's resume or curriculum vitae.

Note: Evaluation activities may be included in the timelines provided as part of the work plan.

(e) Partnership Capacity. In determining the strength and capacity of the proposed pilot partnership, we will consider the following factors—

1. How well the applicant demonstrates that it has an effective governance structure in which partners that are necessary to implement the pilot successfully are represented and have the necessary authority, resources, expertise, and incentives to achieve the pilot's goals and resolve unforeseen issues, including by demonstrating the extent to which, and how, participating partners have successfully collaborated to improve outcomes for disconnected youth in the past (10 points);

2. How well the applicant demonstrates that its proposal was designed with substantive input from all relevant stakeholders, including disconnected youth and other community partners (5 points).

Note: Where the project design includes job training strategies, the extent of employer input and engagement in the identification of skills and competencies needed by employers, the development of the curriculum, and the offering of work-based learning opportunities, including pre-apprenticeship and registered apprenticeship, will be considered.

(f) Data and Performance Management Capacity. In determining the strength of the applicant's data and performance management capacity, we will consider the following factors—

1. The applicant's capacity to collect, analyze, and use data for decision-making, learning, continuous improvement, and accountability, and the strength of the applicant's plan to bridge any gaps in its ability to do so. This capacity includes the extent to which the applicant and partner organizations have tracked and shared data about program participants, services, and outcomes, including the execution of data-sharing agreements that comport with Federal, State, and other privacy laws and requirements, and will continue to do so (10 points);

2. How well the proposed outcome measures, interim indicators, and measurement methodologies specified in Table 4 of the application appropriately and sufficiently gauge results achieved for the target population under the pilot (10 points); and

3. How well the data sources specified in Table 4 of the application can be appropriately accessed and used to reliably measure the proposed outcome measures and interim indicators (5 points).

(g) Budget and Budget Narrative. In determining the adequacy of the resources that will be committed to support the project, we will consider the appropriateness of expenses within the budget with regards to cost and to implementing the pilot successfully. We will consider the entirety of funds the applicant will use to support its pilot including start-up grant funds, blended and braided funds included in Table 5, and non-Federal funds including in-kind contributions. (5 points)

2. Review and Selection Process: The Department will screen applications that are submitted in accordance with the requirements in this notice, and will determine which applications are eligible to be read based on whether they have met the eligibility and application requirements established by this notice.

The Department will use reviewers with knowledge and expertise on issues related to improving outcomes for disconnected youth to score the selection criteria. The Department will thoroughly screen all reviewers for conflicts of interest to ensure a fair and competitive review.

Peer reviewers will read, prepare a written evaluation of, and score the assigned applications, based on the seven selection criteria listed in the Selection Criteria section of this notice.

In reviewing applications, all reviewers will score Competitive Preference Priority 1 (Improving Outcomes for Youth Who Are Unemployed and Out of School), while reviewers with expertise in evaluation will score Competitive Preference Priority 4 (Site-Specific Evaluation). The Department will assign three points for Competitive Preference Priority 2 (Work-Based Learning) if the application proposes to provide all disconnected youth that will be served by the project with paid work-based learning opportunities, such as opportunities during the summer, which are integrated with academic and technical instruction. If you address Competitive Preference Priority 3, provide a HUD Form 50153 (Certification of Consistency with Promise Zone Goals and Implementation) that has been signed by an authorized Promise Zone official.

Technical scoring. Reviewers will read, prepare a written evaluation, and assign a technical score to the applications assigned to their panel, using the selection criteria provided in this notice, Competitive Preference Priorities 1 and 4, and the scoring rubric in Appendix B.

ED will then prepare a rank order of applications based on their technical scores.

Flexibility, including blending of funds and other waivers. Using this rank order, representatives of the Agencies that administer programs under which flexibility in Federal requirements is sought will evaluate whether the flexibility, including blending of funds and other waivers requested by top-scoring applicants, meets the statutory requirements for Performance Partnership Pilots and is otherwise appropriate. For example, if an applicant is seeking flexibility under programs administered by HHS and DOL, its requests for flexibility will be reviewed by HHS and DOL officials. Applicants may be asked to participate in an interview at this point in the process in order to clarify requests for flexibility and other aspects of their proposals.

For applicants that propose to include funds from FY 2015 or FY 2016 competitive grants that have already been awarded, the flexibility review may include consideration of whether the scope, objectives, and target populations of the existing competitive grant award(s) are sufficiently and appropriately aligned with the proposed pilot. Any changes in terms and conditions of the existing competitive grant award(s) required for pilot purposes must be justified by the applicant (see frequently asked questions included in the application package). The Agencies will review those requests on a case-by-case basis.

If 25 or fewer eligible applications are received, the technical scoring and reviews of flexibility requests may be conducted concurrently.

Selecting finalists. Agency officials may recommend the selection of up to ten projects as Performance Partnership Pilots. In accordance with 34 CFR 75.217(d) and in consultation with the other Agencies, the Secretary will select finalists after considering the rank ordering, the recommendations of the Agencies that administer the programs for which the applicants are seeking flexibility, and other information including an applicant's performance and use of funds and compliance history under a previous award under any Agency program. In selecting pilots, the Agencies may consider high-ranking applications meeting Absolute Priority 2, Absolute Priority 3, and Absolute Priority 4 separately to ensure that there is a diversity of pilots. In addition, as required by the Acts, each pilot must meet all statutory criteria.

For each finalist, ED and any other agencies implicated in the pilot will negotiate a performance agreement. If a performance agreement cannot be finalized for any applicant, an alternative applicant may be selected as a finalist instead. The recommended projects will be considered finalists until performance agreements are signed by all parties, and pilot designation will be awarded only after finalization and approval of each finalist's performance agreement.

In addition, in making a competitive grant award, the Secretary requires various assurances including those applicable to Federal civil rights laws that prohibit discrimination in programs or activities receiving Federal financial assistance from the Department of Education (34 CFR 100.4, 104.5, 106.4, 108.8, and 110.23).

3. Risk Assessment and Special Conditions: Consistent with 2 CFR 200.205, before awarding grants under this competition ED conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

4. Performance Measures: As described earlier in this notice, the applicant must propose outcome measures and interim indicators to gauge pilot performance using Table 4. At least one outcome measure must be in the domain of education, and at least one outcome measure must be in the domain of employment. Applicants may specify additional employment and education outcome measures, as well as outcome measures in other domains of well-being, such as criminal justice, physical and mental health, and housing. Regardless of the outcome domain, applicants must identify at least one interim indicator for each proposed outcome measure. Applicants must indicate the source of the data for each outcome measure and interim indicator, the proposed frequency of collection, and the methodology used to collect the data. Outcome measures and interim indicators, along with the required reporting frequency for each, will be outlined in P3 performance agreements.

VII. Agency Contact

FOR FURTHER INFORMATION CONTACT: Marilyn Fountain, U.S. Department of Education, 400 Maryland Avenue SW., Room 11026, PCP, Washington, DC 20202. Telephone: (202)245-7346 or by email: disconnectedyouth@ed.gov or Rosanne Andre, U.S. Department of Education, 400 Maryland Avenue SW., Room 11070, PCP, Washington, DC 20202. Telephone: (202) 245-7789. Email address: Disconnectedyouth@ed.gov.

If you use a TDD or a TTY, call the FRS, toll free, at 1-800-877-8339.

VIII. Other Information

Accessible Format: Individuals with disabilities can obtain this document and a copy of the application package in an accessible format (e.g., braille, large print, audiotape, or compact disc) on request to either of the program contact persons listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Johan E. Uvin,
Deputy Assistant Secretary, Delegated the Duties of the Assistant Secretary for Career, Technical, and Adult Education.

Appendix A: Evaluation Commitment Form

Appendix B: Scoring Rubric

Appendix A: Evaluation Commitment Form

An authorized executive of the lead applicant and all other partners, including State, local, tribal, and non-governmental organizations that would be involved in the pilot's implementation, must sign this form and submit it as an attachment to the grant application. The form is not considered in the recommended application page limit.

Commitment To Participate in Required Evaluation Activities

As the lead applicant or a partner proposing to implement a Performance Partnership Pilot through a Federal grant, I/we agree to carry out the following activities, which are considered evaluation requirements applicable to all pilots:

Facilitate Data Collection: I/we understand that the award of this grant requires me/us to facilitate the collection and/or transmission of data for evaluation and performance monitoring purposes to the lead Federal agency and/or its national evaluator in accordance with applicable Federal, State, and local, and tribal laws, including privacy laws.

The type of data that will be collected includes, but is not limited to, the following:

• Demographic information, including participants' gender, race, age, school status, and employment status;

• Information on the services that participants receive; and

• Outcome measures and interim outcome indicators, linked at the individual level, which will be used to measure the effects of the pilots.

The lead Federal agency will provide more details to grantees on the data items required for performance and evaluation after grants have been awarded.

Participate in Evaluation: I/we understand that participation and full cooperation in the national evaluation of the Performance Partnership Pilot is a condition of this grant award. I/we understand that the national evaluation will include an implementation systems analysis and, for certain sites as appropriate, may also include an impact evaluation. My/our participation will include facilitating site visits and interviews; collaborating in study procedures, including random assignment, if necessary; and transmitting data that are needed for the evaluation of participants in the study sample, including those who may be in a control group.

Participate in Random Assignment: I/we agree that if our Performance Partnership Pilot or certain activities in the Pilot is selected for an impact evaluation as part of the national evaluation, it may be necessary to select participants for admission to Performance Partnership Pilot by a random lottery, using procedures established by the evaluator.

Secure Consent: I/we agree to include a consent form for, as appropriate, parents/guardians and students/participants in the application or enrollment packet for all youth in organizations implementing the Performance Partnership Pilot consistent with any Federal, State, local, and tribal laws that apply. The parental/participant consent forms will be collected prior to the acceptance of participants into Performance Partnership Pilot and before sharing data with the evaluator for the purpose of evaluating the Performance Partnership Pilot.

SIGNATURES

Lead Applicant

Print Name

Signature

Organization

Date

Partner

Print Name

Signature

Organization

Date

Partner

Print Name

Signature

Organization

Date

Partner

Print Name

Signature

Organization

Date

Partner

Print Name

Signature

Organization

Date

Partner

Print Name

Signature

Organization

Date

[Approved by the Office of Management and Budget under control number 1830-0575]

Appendix B: Scoring Rubric

Reviewers will assign points to an application for each selection sub-criterion, as well as for Competitive Preference Priorities 1 (Improving Outcomes for Youth Who Are Unemployed and Out of School) and 4 (Site-Specific Evaluation). In awarding points for Competitive Preference Priority 1, reviewers will make case by case determinations as to how well a particular application meets both parts of the priority. For example, more points may be awarded to an application proposing to serve a higher percentage of disconnected youth who are neither employed nor enrolled in education and who face significant barriers to accessing education and employment, and is likely to result in significantly better educational or employment outcomes for such youth based on the strength of the evidence base and/or logic model underlying the applicant's project design. ED will assign three points to an application for Competitive Preference Priority 2 (Work-Based Learning) if the application proposes to provide all disconnected youth that will be served by the project with paid work-based learning opportunities, such as opportunities during the summer, which are integrated with academic and technical instruction. ED will assign two points for Competitive Preference Priority 3 (Promise Zones) to an application if the application includes a HUD Form 50153 (Certification of Consistency with Promise Zone Goals and Implementation) that has been signed by an authorized Promise Zone official. To help promote consistency across and within the panels that will review P3 applications, the Department has created a scoring rubric for reviewers to aid them in scoring applications.

The scoring rubric below shows the maximum number of points that may be assigned to each criterion, sub-criterion, and the competitive preference priority.

Selection criteria | Sub-criterion points | Criterion points
(a) Need for Project. In determining the need for the proposed project, we will consider the magnitude of the need of the target population, as evidenced by the applicant's analysis of data, including data from a comprehensive needs assessment conducted or updated within the past three years using representative data on youth from the jurisdiction(s) proposing the pilot, that demonstrates how the target population lags behind other groups in achieving positive outcomes and the specific risk factors for this population. |  | 5
(b) Need for Requested Flexibility, Including Blending of Funds and Other Waivers. In determining the need for the requested flexibility, including blending of funds and other waivers, we will consider: |  | 20
(b)1. The strength and clarity of the applicant's justification that each of the specified Federal requirements identified in Table 2 for which the applicant is seeking flexibility hinders implementation of the proposed pilot; and | 10 |
(b)2. The strength and quality of the applicant's justification of how each request for flexibility identified in Table 2 (i.e., blending funds and waivers) will increase efficiency or access to services and produce significantly better outcomes for the target population(s) | 10 |
(c) Project Design. In determining the strength of the project design, we will consider: |  | 20
(c)1. The strength and logic of the proposed project design in addressing the gaps and the disparities identified in the response to Selection Criterion (a) (Need for Project) and the barriers identified in the response to Selection Criterion (b) (Need for Requested Flexibility, Including Blending of Funds and Other Waivers). This includes the clarity of the applicant's plan and how the plan differs from current practices. Scoring will account for the strength of both the applicant's narrative and the logic model;; | 10 |
(c)2. The strength of the evidence supporting the pilot design and whether the applicant proposes the effective use of interventions based on evidence and evidence-informed interventions (as defined in this notice) as documented by citations to the relevant evidence that informed the applicant's design; | 5 |
(c)3. The strength of the applicant's evidence that the project design, including any protections and safeguards that will be established, ensures that the consequences or impacts of the changes from current practices in serving youth through the proposed funding streams: | 5 |
A. Will not result in denying or restricting the eligibility of individuals for services that (in whole or in part) are otherwise funded by these programs; and
B. Based on the best available information, will not otherwise adversely affect vulnerable populations that are the recipients of those services (5 points).
(d) Work Plan and Project Management. In determining the strength of the work plan and project management, we will consider the strength and completeness of the work plan and project management approach and their likelihood of achieving the objectives of the proposed project on time and within budget, based on— |  | 10
1. Clearly defined and appropriate responsibilities, timelines, and milestones for accomplishing project tasks;
2. The qualifications of project personnel to ensure proper management of all project activities;
3. How any existing or anticipated barriers to implementation will be overcome.
(e) Partnership Capacity. In determining the strength and capacity of the proposed pilot partnership, we will consider the following factors— |  | 15
(e)1. How well the applicant demonstrates that it has an effective governance structure in which partners that are necessary to implement the pilot successfully are represented and have the necessary authority, resources, expertise, and incentives to achieve the pilot's goals and resolve unforeseen issues, including by demonstrating the extent to which, and how, participating partners have successfully collaborated to improve outcomes for disconnected youth in the past; | 10 |
(e)2. How well the applicant demonstrates that its proposal was designed with substantive input from all relevant stakeholders, including disconnected youth and other community partners. | 5 |
(f) Data and Performance Management Capacity. In determining the strength of the applicant's data and performance management capacity, we will consider the following factors— |  | 25
(f)1. The applicant's capacity to collect, analyze, and use data for decision-making, learning, continuous improvement, and accountability, and the strength of the applicant's plan to bridge any gaps in its ability to do so. This capacity includes the extent to which the applicant and partner organizations have tracked and shared data about program participants, services, and outcomes, including the execution of data-sharing agreements that comport with Federal, State, and other privacy laws and requirements, and will continue to do so; | 10 |
(f)2. How well the proposed outcome measures, interim indicators, and measurement methodologies specified in Table 4 of the application appropriately and sufficiently gauge results achieved for the target population under the pilot; and | 10 |
(f)3. How well the data sources specified in Table 4 of the application can be appropriately accessed and used to reliably measure the proposed outcome measures and interim indicators. | 5 |
(g) Budget and Budget Narrative. In determining the adequacy of the resources that will be committed to support the project, we will consider the appropriateness of expenses within the budget with regards to cost and to implementing the pilot successfully. We will consider the entirety of funds the applicant will use to support its pilot including start-up grant funds, blended and braided funds included in Table 5, and non-Federal funds including in-kind contributions. |  | 5
Total | 100 | 100

Competitive Preference Priorities for Applications |  |
Competitive Preference Priority 1: Improving Outcomes for Youth Who Are Unemployed and Out of School | 5 | 5
To meet this priority, an applicant must propose a pilot that—
(1) will serve disconnected youth who are neither employed nor enrolled in education and who face significant barriers to accessing education and employment; and
(2) is likely to result in significantly better educational or employment outcomes for such youth.
Competitive Preference Priority 2: Work-Based Learning Opportunities | 3 | 3
To meet this priority, an applicant must propose a pilot that will provide all of the disconnected youth it proposes to serve with paid work-based learning opportunities, such as opportunities during the summer, which are integrated with academic and technical instruction.
Competitive Preference Priority 3: Promise Zones | 2 | 2
This priority is for projects that are designed to serve and coordinate with a federally designated Promise Zone.
Competitive Preference Priority 4: Site-Specific Evaluation | 10 | 10
To meet this priority, an applicant must propose to conduct an independent evaluation of the impacts on disconnected youth of its overall program or specific components of its program that is a randomized controlled trial or a quasi-experimental design study. The extent to which an applicant meets this priority will be based on the clarity and feasibility of the applicant's proposed evaluation design, the appropriateness of the design to best capture key pilot outcomes, the prospective contribution of the evaluation to the knowledge base about serving disconnected youth (including the rigor of the design and the validity and generalizability of the findings), and the applicant's demonstrated expertise in planning and conducting a randomized controlled trial or quasi-experimental evaluation study.
Total | 20 | 20

While case-by-case determinations will be made, the reviewers will be asked to consider the general ranges below as a guide when awarding points.

Maximum point value | Quality of response: Low | Quality of response: Medium | Quality of response: High
10 | 0-2 | 3-7 | 8-10
5 | 0-1 | 2-3 | 4-5

[FR Doc. 2016-09748 Filed 4-25-16; 8:45 am]

BILLING CODE 4000-01-P